DEPARTMENT OF LABOR

Employment and Training Administration

Notice of Determinations Regarding Eligibility to Apply for Worker Adjustment Assistance

In accordance with Section 223 of the Trade Act of 1974, as amended, (19 U.S.C. 2273), the Department of Labor herein presents summaries of determinations regarding eligibility to apply for trade adjustment assistance for workers (TA-W) issued during the period of July 2003.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following case, the investigation revealed that the criteria for eligibility have not been met for the reasons specified.

The investigation revealed that criterion (a)(2)(A)(I.C.) (Increased imports) and (a)(2)(B)(II.B) (No shift in production to a foreign country) have not been met.

Negative Determinations for Worker Adjustment Assistance

The investigation revealed that criterion (a)(2)(A) (I.C.) (Increased imports) and (a)(2)(B) (II.B) (No shift in production to a foreign country) have not been met.

TA-W-51,945; State of Alaska Commercial Fisheries Entry Commission Permit #S)4K61830V, Kodiak, AK

TA-W-51,949; Peerless Corp., div. of Advanced Cast Products, Ironton, OH

TA-W-52,094; Anemostat, Inc., Scranton, PA

TA-W-52,177; Redman Knitting, Inc., Ridgewood, NY

TA-W-52,220; NMC Finishing, Inc., Nickell Moulding Co., Inc., Malvern, AR

TA-W-52,221; Motorola, Inc., Semiconductor Products Sector, MOS 5, Mesa, AZ

TA-W-52,251; Waukesha Cherry-Burrell, Delavan, WI

TA-W-52,264; Springs Industries, Inc., Lyman Printing and Finishing Plant, Lyman, SC

TA-W-52,386; Fishing Vessel (F/V) Family Pride, Kodiak, AK

TA-W-52,387; Fishing Vessel (F/V) Viking, Cordova, AK

TA-W-52,143; Larimer and Norton, Inc., Galeton, PA

The workers firm does not produce an article as required for certification under Section 222 of the Trade Act of 1974.

TA-W-52,217; Modular Mining Systems, Inc., Tucson, AZ

TA-W-52,222; O'Neill and Sons, Inc., Tumwater, WA

TA-W-52,223; O'Neill Transportation, LLC, Tumwater, WA

TA-W-52,320; Computer Sciences Corporation (CSC), Newark, DE

TA-W-52,325; Stream International, Inc., Beaverton, OR

TA-W-52,329; ASML, Austin, TX

The investigation revealed that criteria (2) has not been met. The workers firm (or subdivision) is not a supplier or downstream producer to trade-affected companies.

TA-W-52,019; Actronix, Inc., Flippin, AR

The investigation revealed that criteria (a)(2)(A) (I.B) (Sales or production, or both, did not decline) and (a)(2)(B) (II.B) (has shifted production to country not under the free trade agreement with U.S) have not been met.

TA-W-51,952; Fishing Vessel (F/V) MS. Ingrid, Sand Point, AK

Affirmative Determinations for Worker Adjustment Assistance

The following certifications have been issued; the date following the company name and location of each determination references the impact date for all workers of such determination.

The following certifications have been issued. The requirements of (a)(2)(A) (increased imports) of Section 222 have been met.

TA-W-52,060; Amital Spinning Corp., New Bern, NC: June 17, 2002.

TA-W-51,699; Meadwestvaco, Consumer Packaging Div., Cleveland, TN: May 7, 2002.

TA-W-51,773; Regal Ware, Inc., Kewaskum, WI and West Bend, WI: April 30, 2002.

TA-W-51,852; Unifi, Inc., Nylon Div., Plant #3, Madison, NC, A; Dyed Div., Plant #4, Reidsville, NC, B; Dyed Div., Plant #15, Mayodan, NC, C; Nyloh Div., Plant #7, Madison, NC, D; Corporate Office, Greensboro, NC, E; Nylon Div., Plant #1, Madison, NC, F; Nylon Div., Plant #5, Madison, NC, G; Dyed Div., Plant #2, Reidsville, NC, H; Unifi/Sans, Spinning Div., Stoneville, NC, I; Polyester Div., Plant #22, Stauton, VA, J; Polyester Div., Plant T1, Yadkinville, NC, K; Polyester Div., Plant T2, Yadkinville, NC, L; Polyester Div., Plant T4, Yadkinville, NC, M; Polyester Div., Plant T5, Yadkinville, NC, N; Spinning Div., Plant F1, Yadkinville, NC, O; Dyed Div., Altamahaw, NC, P; Central Distribution Center, Madison, NC, Q; Warehouse 1 and 2, Yadkinville, NC, R; Transportation, Yadkinville, NC and S; Warehouse, Fort Payne, AL: May 15, 2002.

TA-W-52,044; Spectrum Dyed Yarns, Inc., Kings Mountain, NC: June 12, 2002.

TA-W-52,077; H and H Sewing, Blaine, MN: June 1, 2002.

TA-W-52,090; Conn-Selmer, Inc., Vincent Bach Plant, Elkhart, IN: June 18, 2002.

TA-W-52,113; Georgetown Steel Co., LLC, Georgetown, SC: June 20, 2002.

TA-W-52,132; Pennsylvania House, Inc., Monroe, NC: June 23, 2002.

TA-W-52,157; Trombetta, LLC, Menomonee Falls, WI: June 25, 2002.

TA-W-52,189; Oplink Communications, San Jose, CA: June 18, 2002.

TA-W-52,191; Image Metal Works, Inc., Milton Freewater, OR: June 30, 2002.

TA-W-52,203; Dresser, Inc., Berea, KY: July 1, 2002.

TA-W-52,230; Faribault Woolen Mill Co., Faribault, MN: June 2, 2002.

TA-W-52,281; Tiffany Industries LLC, Conway, AR: July 9, 2002.

TA-W-52,294; Richardson Brothers Furniture Co., a div. of Richardson Brothers Co., Sheboygan Falls, WI: July 9, 2002.

The following certifications have been issued. The requirements of (a)(2)(B) (shift in production) of Section 222 have been met.

TA-W-52,196; Humboldt Hermetic Motor Corp., Humboldt, TN: June 25, 2002.

TA-W-52,167; General Mills, Inc., Bakeries and Foodservice Div., Formerly The Pillsbury Co., Hazelwood, MO: June 21, 2002.

TA-W-52,134; Trico Products Corp., Buffalo Plant, Buffalo, NY: June 12, 2002.

TA-W-52,248; Fibergrate Composite Structures, Inc., a div. of RPM International, Inc., including leased workers of Snelling Personnel Services and Staffmark, Piney Flats, TN: July 1, 2002.

TA-W-52,288; Pliana, Inc., Charlotte, NC: June 30, 2002.

TA-W-52,098; Fishing Vessel (F/V) Secure, Bow, WA: June 19, 2002.

TA-W-52,279; Jacuzzi Bros., div. of Jacuzzi, Inc., subsidiary of Jacuzzi Brands, Inc., Little Rock, AR: June 11, 2002.

TA-W-52,272; Cooper Bussman, Electrical Products Div., including leased workers of Adecco Personnel a subsidiary of Cooper Industries, Black Mountain, NC: June 17, 2002.

I hereby certify that the aforementioned determinations were issued during the months of July 2003. Copies of these determinations are available for inspection in Room C-5311, U.S. Department of Labor, 200 Constitution Avenue, NW., Washington, DC 20210 during normal business hours or will be mailed to persons who write to the above address.

Dated: August 1, 2003.
Timothy Sullivan,
Director, Division of Trade Adjustment Assistance.

[FR Doc. 03-20727 Filed 8-13-03; 8:45 am]

BILLING CODE 4510-30-P